DEPARTMENT OF HEALTH AND HUMAN SERVICES

Administration for Children and Families

Proposed Information Collection Activity; Human Trafficking Youth Prevention Education Demonstration Grant Program Process Evaluation (New Collection)

AGENCY: Office of Planning, Research, and Evaluation, Administration for Children and Families, U.S. Department of Health and Human Services.

ACTION: Request for public comments.

SUMMARY: The Office of Planning, Research, and Evaluation (OPRE), Administration for Children and Families (ACF), U.S. Department of Health and Human Services (HHS), in collaboration with the Office on Trafficking in Persons (OTIP), is proposing a new data collection activity for the Human Trafficking Youth Prevention Education (HTYPE) Demonstration Grant Program Process Evaluation. The process evaluation will explore whether the program is being implemented as intended, describe the successes and barriers that have been encountered, and highlight the changes that may be needed to support program implementation.

DATES: Comments due within 60 days of publication. In compliance with the requirements of the Paperwork Reduction Act (PRA) of 1995, ACF is soliciting public comment on the specific aspects of the information collection described above.

ADDRESSES: Copies of the proposed collection of information can be obtained and comments may be forwarded by emailing OPREinfocollection@acf.hhs.gov. All requests should be identified by the title of the information collection.

SUPPLEMENTARY INFORMATION: Description: The goal of the HTYPE Demonstration Grant Program is to support local educational agencies (LEA) to partner with a nonprofit or Non-Governmental Organization to build the capacity of schools to provide skills-based human trafficking prevention education for educators, other staff, and students, and to establish a Human Trafficking School Safety Protocol (HTSSP) that addresses the safety, security, and well-being of staff and students. Eight HTYPE Demonstration Program project grants were awarded in September 2020, with a period of performance of 36 months.

The purpose of the proposed information collection is to investigate and document how HTYPE projects approach and accomplish the goals of the HTYPE Demonstration Grant Program, inform ACF's efforts to support human trafficking prevention education in schools, and inform future evaluation efforts.

The proposed information collection activities include:

(1) One-time, semi-structured interviews or focus groups with trained LEA staff and implementers at select schools from each grant recipient site. Interviews/focus groups will include questions focused on implementation models, participant and implementer engagement, and implementation facilitators and barriers.

(2) One-time, semi-structured interviews with school staff related to the process and implementation of the HTSSP at select schools from each grant recipient site.

(3) One-time web survey with school administrators, which will include questions focused on school context and engagement, training mandates, implementation models, and implementation facilitators and barriers.

(4) One-time web survey with school staff tasked with implementing the HTYPE curriculum, which will include questions focused on educator training, student curriculum implementation models and quality, participant and implementer engagement, and implementation facilitators and barriers.

Respondents: LEA staff who have been involved in the HTYPE demonstration programs, including school leadership/administrators, curriculum implementers, and staff who have received human trafficking training.

Annual Burden Estimates
Instrument | Number of respondents (total over request period) | Number of responses per respondent (total over request period) | Average burden per response (in hours) | Total/annual burden (in hours)
HTYPE Training Implementation Interview/Focus Group Guide | 192 | 1 | 1.5 | 288
HTYPE HTSSP Walk-Through Guide | 24 | 1 | .75 | 18
HTYPE School Administrator Survey | 321 | 1 | .25 | 80
HTYPE Implementer Survey | 1437 | 1 | .25 | 359

Estimated Total Annual Burden Hours: 745.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 105(d)(2) of the Trafficking Victims Protection Act (TVPA) of 2000 (Pub. L. 106-386) 105 [22 U.S.C. 7103]

Mary B. Jones,
ACF/OPRE Certifying Officer.

[FR Doc. 2022-20939 Filed 9-27-22; 8:45 am]

BILLING CODE 4184-47-P